DEPARTMENT OF JUSTICE

Notice of Lodging of Proposed Consent Decree Under the Comprehensive Environmental Response, Compensation, and Liability Act

On August 25, 2022, the Department of Justice lodged a proposed Consent Decree with the United States District Court for the District of Utah in the lawsuit entitled United States v. United Park City Mines Company, Civil Action No. 2:19-cv-00200-BSJ.

The United States filed this lawsuit against United Park City Mines Company (“UPCM”) under the Comprehensive Environmental Response, Compensation, and Liability Act (“CERCLA”). The complaint seeks recovery of costs that the United States incurred pursuant to a 2014 Administrative Settlement Agreement and Order on Consent (“2014 AOC”), along with declaratory judgments regarding UPCM's liability for future costs to be incurred in responding to releases of hazardous substances at the Richardson Flat Tailings Site near Park City, Utah.

Under the Consent Decree, UPCM agrees to pay or cause to be paid $6,475,000 for response costs at the Richardson Flat Tailings Site, $350,000 for natural resource damages at the Richardson Flat Tailings Site, and $250,000 for response costs at the nearby Uintah Mining District Site. In return, the United States agrees not to sue UPCM and certain other entities under sections 106 and 107 of CERCLA; under section 7003 of the Resource Conservation and Recovery Act (“RCRA”); in relation to certain previous agreements among the United States, UPCM, and others, including the 2014 AOC; and under the Federal Priority Statute, the Federal Debt Collection Procedures Act, or any alter-ego, fraudulent-conveyance, or other debt-collection cause of action for response costs related to the Richardson Flat Tailings Site and Uintah Mining District Site.

The publication of this notice opens a period for public comment on the Consent Decree. Comments should be addressed to the Assistant Attorney General, Environment and Natural Resources Division, and should refer to United States v. United Park City Mines Company, D.J. Ref. No. 90-11-3-08764/4. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $5.75 (25 cents per page reproduction cost) payable to the United States Treasury.

Jeffrey Sands,
Assistant Section Chief, Environmental Enforcement Section, Environment and Natural Resources Division.

[FR Doc. 2022-18839 Filed 8-30-22; 8:45 am]

BILLING CODE 4410-15-P